DEPARTMENT OF JUSTICE

Immigration and Naturalization Service

8 CFR Parts 3 and 212

[EOIR No. 127P; AG Order No. 2329-2000]

RIN 1125-AA29

Executive Office for Immigration Review; Section 212(c) Relief for Certain Aliens in Deportation Proceedings Before April 24, 1996

AGENCY: Executive Office for Immigration Review, Justice.

ACTION: Proposed rule; Reopening of comment period.

SUMMARY: On July 18, 2000, at 65 FR 44476, the Department of Justice published a proposed rule in the Federal Register to create a uniform procedure for applying the law as enacted by the Antiterrorism and Effective Death Penalty Act of 1996 (AEDPA). This rule would allow certain lawful permanent residents in deportation proceedings that commenced before April 24, 1996, to apply for relief from deportation pursuant to section 212(c) of the Immigration and Nationality Act (INA). In response to requests from the public, and to ensure that the public has ample opportunity fully to review and comment on the proposed rule, this document reopens the public comment period for an additional time period, through October 18, 2000.

DATES: Written comments must be submitted on or before October 18, 2000.

ADDRESSES: Please submit written comments, original and two copies, to Charles Adkins-Blanch, General Counsel, Executive Office for Immigration Review, 5107 Leesburg Pike, Suite 2400, Falls Church, VA 22041, telephone (703) 305-0470. Comments are available for public inspection at the above address by calling (703) 305-0470 to arrange for an appointment.

FOR FURTHER INFORMATION CONTACT: Charles Adkins-Blanch, General Counsel, Executive Office for Immigration Review, 5107 Leesburg Pike, Suite 2400, Falls Church, VA 22041, telephone (703) 305-0470.

Dated: September 30, 2000.
Janet Reno,
Attorney General.

[FR Doc. 00-26081 Filed 10-10-00; 8:45 am]

BILLING CODE 4410-30-M